TENNESSEE VALLEY AUTHORITY

Meeting of the Regional Energy Resource Council

AGENCY: Tennessee Valley Authority (TVA).

ACTION: Notice of meeting.

SUMMARY: The TVA Regional Energy Resource Council (RERC) will hold a meeting on Wednesday, December 8, 2021, regarding regional energy related issues in the Tennessee Valley.

DATES: The meeting will be held on Wednesday, December 8, 2021, from 9:00 a.m. to 1:00 p.m. ET. A 30-minute public listening session will be held at 9:30 a.m. ET.

ADDRESSES: The meeting is virtual and open to the public. Public members must preregister at the following link: https://bit.ly/RERC-Dec. Anyone needing special accommodations should let the contact below know at least a week in advance.

FOR FURTHER INFORMATION CONTACT: Cathy Coffey, ccoffey@tva.gov or 865/632-4494.

SUPPLEMENTARY INFORMATION: The RERC was established to advise TVA on its energy resource activities and the priorities among competing objectives and values. Notice of this meeting is given under the Federal Advisory Committee Act (FACA), 5 U.S.C. App.2.

The meeting agenda includes the following:

1. Welcome and Introductions

2. Public Comments

3. TVA Business Update

4. Update on TVA's Transmission Planning & Operations

5. Update on TVA's Long-term Resource Planning

6. Update on TVA's Pricing Fundamentals

The RERC will hear views of citizens by providing a 30 minute public comment session starting at 9:30 a.m. ET. Persons wishing to speak must register at ccoffey@tva.gov by 5:00 p.m. EDT, on Tuesday, December 7, 2021, and will be called on during the public listening session for up to two minutes to share their views. Written comments are also invited and may be emailed to ccoffey@tva.gov or mailed to the Regional Energy Resource Council, Tennessee Valley Authority, 400 West Summit Hill Drive, WT 9D, Knoxville, Tennessee 37902.

Dated: November 9, 2021.
Cathy Coffey,
Senior Program Manager, Stakeholder Relations, Tennessee Valley Authority.

[FR Doc. 2021-25058 Filed 11-16-21; 8:45 am]

BILLING CODE 8120-08-P